DEPARTMENT OF AGRICULTURE

Commodity Credit Corporation

Announcement of the Technical Assistance for Specialty Crops Program

AGENCY: Commodity Credit Corporation, USDA.

ACTION: Notice.

SUMMARY: Commodity Credit Corporation has published elsewhere in this issue an interim rule establishing a new “Technical Assistance for Specialty Crops” program to help open, retain, and expand markets for U.S. specialty crops.

DATES: Proposals will be accepted until 5 p.m. Eastern Daylight Time, September 18, 2002. Proposals will be reviewed, and funding decisions will be made, as proposals are received.

FOR FURTHER INFORMATION CONTACT: Marketing Operations Staff, Foreign Agricultural Service, Room 4932-S Stop 1042, U.S. Department of Agriculture, 1400 Independence Ave., SW., Washington, DC 20250-1042, or telephone: (202) 720-4327.

SUPPLEMENTARY INFORMATION: To be considered for participation in the TASC, interested parties should submit, via a commercial delivery service (including FedEx, DHL, etc.), proposals to: Director, Marketing Operations Staff, Foreign Agricultural Service, U.S. Department of Agriculture, Room 4932-S, Stop 1042, 14th and Independence Avenue, SW., Washington, DC 20250-1042. All proposals must be received by 5 p.m. Eastern Daylight Time, September 18, 2002. Although entities interested in participating in the TASC are not required to submit proposals in any specific format, all proposals must contain complete information about the proposed projects as described in the interim rule, published elsewhere in this issue, that establishes the program.

Dated: September 6, 2002.
W. Kirk Miller,
Administrator, Foreign Agricultural Service, and Vice President, Commodity Credit Corporation.

[FR Doc. 02-23057 Filed 9-6-02; 1:03 pm]

BILLING CODE 3410-10-P